CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning annual reports provided by recipients of Program Development and Training grants, and Disability Inclusion grants. Applicants will respond to the questions included in this ICR in order to report on their use of federal funds and progress against their annual plan.

Copies of the information collection request can be obtained by contacting the office listed in the addresses section of this notice.

DATES: Written comments must be submitted to the individual and office listed in the ADDRESSES section by May 5, 2008.

ADDRESSES: You may submit comments, identified by the title of the information collection activity, by any of the following methods:

(1) By mail sent to: Corporation for National and Community Service; Attention Amy Borgstrom, Associate Director for Policy, Room 9515; 1201 New York Avenue, NW., Washington, DC, 20525.

(2) By hand delivery or by courier to the Corporation's mailroom at Room 8100 at the mail address given in paragraph (1) above, between 9 a.m. and 4 p.m. Monday through Friday, except Federal holidays.

(3) By fax to: (202) 606-3476, Attention Amy Borgstrom, Associate Director for Policy.

(4) Electronically through the Corporation's e-mail address system: aborgstrom@cns.gov.

FOR FURTHER INFORMATION CONTACT: Amy Borgstrom, (202) 606-6930, or by e-mail at aborgstrom@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

These application instructions will be used by grantees to report on their use of Program Development and Training grants, and Disability Inclusion grants. These grants are provided to state commissions to support capacity building for their subgrantees and disability inclusion efforts. The annual report is submitted electronically using eGrants, the Corporation's Web-based grants management system, or submitted via e-mail. This information collection instructs applicants to respond to a total of six questions.

Current Action

Program Development and Training and Disability Inclusion Annual Report

Type of Review: New.

Agency: Corporation for National and Community Service.

Title: Program Development and Training and Disability Inclusion Annual Report

OMB Number: None.

Agency Number: None.

Affected Public: State commissions for national and community service.

Total Respondents: 54.

Frequency: Annual.

Average Time Per Response: Averages 8 hours.

Estimated Total Burden Hours: 432 hours.

Total Burden Cost (capital/startup): None.

Total Burden Cost (operating/maintenance): None.

Comments submitted in response to this notice will be summarized and/or included in the request for Office of Management and Budget approval of the information collection request; they will also become a matter of public record.

Dated: February 25, 2008.
Kimberly Mansaray,
Chief of Staff, AmeriCorps State and National.

[FR Doc. E8-4138 Filed 3-3-08; 8:45 am]

BILLING CODE 6050-$$-P